DEPARTMENT OF THE TREASURY

Office of Foreign Assets Control

Notice of OFAC Sanctions Actions

AGENCY: Office of Foreign Assets Control, Treasury.

ACTION: Notice.

SUMMARY: The U.S. Department of the Treasury's Office of Foreign Assets Control (OFAC) is publishing the names of one or more entities that have been placed on OFAC's Specially Designated Nationals and Blocked Persons List based on OFAC's determination that one or more applicable legal criteria were satisfied. All property and interests in property subject to U.S. jurisdiction of these entities are blocked, and U.S. persons are generally prohibited from engaging in transactions with them.

DATES: See Supplementary Information section for effective date(s).

FOR FURTHER INFORMATION CONTACT: OFAC: Andrea M. Gacki, Director, tel.: 202-622-2490; Associate Director for Global Targeting, tel.: 202-622-2420; Assistant Director for Licensing, tel.: 202-622-2480; Assistant Director for Regulatory Affairs, tel.: 202-622-4855; or the Assistant Director for Sanctions Compliance & Evaluation, tel.: 202-622-2490.

SUPPLEMENTARY INFORMATION:

Electronic Availability

The Specially Designated Nationals and Blocked Persons List and additional information concerning OFAC sanctions programs are available on OFAC's website (https://www.treasury.gov/ofac).

Notice of OFAC Actions

On April 5, 2022, OFAC determined that the property and interests in property subject to U.S. jurisdiction of the following entities are blocked under the relevant sanctions authorities listed below.

Entity

1. GARANTEX EUROPE OU (Latin: GARANTEX EUROPE OÜ), Harju maakond, Kesklinna linnaosa, J., Poska tn 51a/1-3, Tallinn 10150, Estonia; Harju maakond, Lasnamae linnaosa, Peterburi tee 47, Tallinn 11415, Estonia; Moscow, Russia; St. Petersburg, Russia; website garantex.io; Digital Currency Address—XBT 3Lpoy53K625zVeE47ZasiG5jGkAxJ27kh1; Digital Currency Address—ETH 0x7FF9cFad3877F21d41Da833E2F775dB0569eE3D9; Digital Currency Address—USDT 3E6ZCKRrsdPc35chA9Eftp1h3DLW18NFNV; Business Registration Number 14850239 (Estonia) issued 18 Nov 2019 [RUSSIA-EO14024].

Designated pursuant to Section 1(a)(i) of Executive Order 14024 of April 15, 2021, “Blocking Property With Respect To Specified Harmful Foreign Activities of the Government of the Russian Federation,” for operating or having operated in the technology sector, defense and related materiel sector, or financial services sector of the Russian Federation economy.

2. HYDRA MARKET (a.k.a. HYDRA MARKETPLACE; a.k.a. “HYDRA”), Russia; Commonwealth of Independent States; website http://hydram6esdjf6otepmr5c3vjyndsoddz22afphbbjznwb5ln2c6op7ad.onion/; alt. website http://hydraclubbioknikokex7njhwuahc2l67lfiz7z36md2jvopda7nchid.onion/; Digital Currency Address—XBT 3K4rjdh8A5yi6LWvft2rbmyZvqEbPSSSX4; alt. Digital Currency Address—XBT 17mhyeBX617ABZ1ffThhUTJkHUcMvCkfd5; alt. Digital Currency Address—XBT

35qwVtMEohWDdBWRCSR7azoP5cbY8SG1Q; alt. Digital Currency Address—XBT 35KAdTa2vqnJzitF2xiUzZn1Gmcas2Y465; alt. Digital Currency Address—XBT 35LScRJ8hzDvvWh9t9UA8bHGnGNVz3YEfa; alt. Digital Currency Address—XBT 1PJp8diNa89cVHpiT1VPu7EQ8LxYM5HX6v; alt. Digital Currency Address—XBT 17V7THwHMiDJmDwZK4unhE5HgKFJKx7VCe; alt. Digital Currency Address—XBT 3PiCnZrBvGfWAKQ9hr4cCpfaDjy64yNSpE; alt. Digital Currency Address—XBT

14gM1HuLVDELNHaFU22qpabjtiWek4HhV1; alt. Digital Currency Address—XBT 1GYuu9d5HPikafbys3k5Q3DRJq6debGsoB; alt. Digital Currency Address—XBT 3GXdtA6kbb4M5aqzZm5qqxcFDFRMW8LqdJ; alt. Digital Currency Address—XBT 1B11Ezqg3AXjFhMdRq5UpPDpNyriYNVtkn; alt. Digital Currency Address—XBT 16SPDQFFzgsoNSPiFFTfS8Dw8LLXqia4oc; alt. Digital Currency Address—XBT

19pPbUDvoSBZafkUCYkD2Z9AkuqqV6sWm7; alt. Digital Currency Address—XBT 3BQACtiMXYB9JpUMpkEWt9m8BzswpGHq4X; alt. Digital Currency Address—XBT 1DGsY4ww3BJnWXTsnmTgWa6UWdoRXgA1pX; alt. Digital Currency Address—XBT 1GcKLUUXodTQcLcPD7VLMgvCc4hs5Q775; alt. Digital Currency Address—XBT 1EvhBad5wCZYhBoAsGaciV6AvmZ1osLpeJ; alt. Digital Currency Address—XBT

bc1qsmv6lkrw65l30yazdqpdjjtwzpvk9f8gfh0cy7; alt. Digital Currency Address—XBT bc1qs9u6j78e3utj08mwvqkkmqm9de5xk3g4yh8qtq; alt. Digital Currency Address—XBT 12VrYZgS1nmf9KHHped24xBb1aLLRpV2cT; alt. Digital Currency Address—XBT bc1q202ajnhxgg9d9jjczmg0g4usp6haqldyy2eakl; alt. Digital Currency Address—XBT 1NbGwQwt4uEhg2srAKppLf8QaF6fbp3PZG; alt. Digital Currency Address—XBT

13LQJQ1oJ9K7PsqsGfjNhoVv6UeU6hgzQz; alt. Digital Currency Address—XBT 1CG1aSCxUnbmv9G34ofxTQoHtuVnMLJtQV; alt. Digital Currency Address—XBT 3Kp8Qc5z7yevDeoQxhS5RSSKnEi5x7AQ43; alt. Digital Currency Address—XBT 331TS6DyASY7iU5CRA8UryBnkPS78fP2B1; alt. Digital Currency Address—XBT 1NvJm3jfZxENNyqws5BKQvhkLxg9chLJdo; alt. Digital Currency Address—XBT

1Licqjca74n8pmNaoARXLLqcTUTHFpxbXH; alt. Digital Currency Address—XBT 175BUqf8JCU1uoG1iTRKTacDa4uvJDUCw2; alt. Digital Currency Address—XBT 1ANpca7g93BwptUJg1zV116v49zn9gjDi3; alt. Digital Currency Address—XBT 1BCWMwpR4M1nYUuuYe2bmzrNuwGoF9ZAbA; alt. Digital Currency Address—XBT 18cFGAdYcvNHkuhXLBE7izQKCyUW8TzCJE; alt. Digital Currency Address—XBT

1QHxyuLGRMHfbNPJikV4Dwhfx45HWfUMWB; alt. Digital Currency Address—XBT 1GnFTy5F9qi5MfaRZfgdg2jkyT5xtAHvd8; alt. Digital Currency Address—XBT bc1quyc6j8ca84q9gjej5jjd2n8hra0vfu0j60fefs57p6e5rerkq07q0l5u3w; alt. Digital Currency Address—XBT 16p2UWTZwXRyK5bTHNVjdDyy1D3EQGsZf2; alt. Digital Currency Address—XBT 1CddRqw7oSPrT4tt5oXKyx2LiHJDPszy7y; alt. Digital Currency Address—XBT 1Hhe61Bwxs8Hd2WxzWY9FQyZicBiZGeSNW; alt. Digital Currency Address—XBT 1D3GuaS9eqKw8dWj9JFQtNufdRtysjSLxZ; alt. Digital Currency Address—XBT 1PWRKxkR5AU7Tc9zPqjdhtu1eGW1QZzs4y; alt. Digital Currency Address—XBT

1D1ej7zQzywWBDNXKNYpmH7Hso2U9koDG4; alt. Digital Currency Address—XBT 3KGQ3hX6eFYtBjTBFSdvdkzHmwZyYWLRQh; alt. Digital Currency Address—XBT 1LKE3XA9bf5JFqtGtCHzWj5QGxKGwMfXZw; alt. Digital Currency Address—XBT 1MtsQsw6n2jvJCWhpCw7jifTfD9Q3rBBVg; alt. Digital Currency Address—XBT 1KkaKujnqwJf7Cbm7JKAZGF3X9d4685m8n; alt. Digital Currency Address—XBT

1Ge8JodC2HiBiEuT7D3MoH6Fak6XrcT9Kf; alt. Digital Currency Address—XBT bc1qsmqpalp3gtgkltag4x3ygevmhh9y2hzk73t2ug; alt. Digital Currency Address—XBT 1E9uUnLbyfToazo95vmM3ysYnzgkrL7GeC; alt. Digital Currency Address—XBT 1HH8eiuaTMucTNyvGCUmAvmCZCtdMi8SqK; alt. Digital Currency Address—XBT 19FQzHibWDhSP8pKmJS3uagFYoisXtehzw; alt. Digital Currency Address—XBT

3DLGfN7hgsWXXSp9euXcnmWXLpFQuswW2t; alt. Digital Currency Address—XBT 1PXxwPVtYxZiCRp9LKq7aKMDFrhAQztvUE; alt. Digital Currency Address—XBT 1Q4tJjH2aBr3AJrzxqa4Z3jPpf5SDgF4jK; alt. Digital Currency Address—XBT 1PYtgFS2t6i57WdDvbRa7kPcsagGMBxzfg; alt. Digital Currency Address—XBT 16ZSAEfYpPCj3D94fsNt2okYj9Ue8mxy6T; alt. Digital Currency Address—XBT

bc1qvlzfn6kmezv44d8kw0p5jsmxe6wchv3zc7gsxs; alt. Digital Currency Address—XBT 3QVyoH4u3qT88uChAeJVhfB3r6maZt431y; alt. Digital Currency Address—XBT 1FFS6pX1TCKTNy668Mbk2Lyoem1qB48kYX; alt. Digital Currency Address—XBT 1Dpddb1TMjvmNQeYDqgyd1ww6cmwPJRdSk; alt. Digital Currency Address—XBT

3AjiWiUdKB5mcGUSS9mBeoHCeYJw3Zo8r6; alt. Digital Currency Address—XBT 1EtMuBPQnPCa3cecerdSH1SzydxnhbTmw; alt. Digital Currency Address—XBT 3CCmt5LjQ5yKkaFY1DWC2SbERVEtWRnSRD; alt. Digital Currency Address—XBT 1MQBDeRWsiJBf7K1VGjJ7PWEL6GJXMfmLg; alt. Digital Currency Address—XBT 1MbtT2ZsTtLp7EKZUV9r74cTyqvsMtTP2M; alt. Digital Currency Address—XBT 36yS87PLuW7sErLg1TY26WzaVarTim7AcC; alt. Digital Currency Address—XBT 3AYU365Tcjef7j9pdKF9Xe8rWpEpsH196t; alt. Digital Currency Address—XBT

148LKmyZT3FGE4x1GjsFN6RsAwcjzk5iuE; alt. Digital Currency Address—XBT 16EKTes8ahD8xvwisqjc2xSNLiG3fDHatW; alt. Digital Currency Address—XBT 3GuQjr7kkrR5EjpanMgyAuxuLgrjEUwe21; alt. Digital Currency Address—XBT 35eanEz5iYg2eYaxCtMrR4SCoypFqrBWUH; alt. Digital Currency Address—XBT 3QWUdP5taP4GrRuueVDud1eWetb7hc3wDH; alt. Digital Currency Address—XBT 3Czhm6xqn8odwz6jgTcjRrUjog28v6aVS8; alt. Digital Currency Address—XBT 1F7UL41qYm6TvnExZzPHBCyeENvX3XDEMS; alt. Digital Currency Address—XBT 123WBUDmSJv4GctdVEz6Qq6z8nXSKrJ4KX; alt. Digital Currency Address—XBT

3BCN3WgMRJwULTz1vsEQ7NZrBjwaUBf5Ca; alt. Digital Currency Address—XBT 35SwVFxosV3AsvnrBfzdXarqavRbvDyyxv; alt. Digital Currency Address—XBT 32pCmCWEjwhkLwh5BgLNAeBQFp5Gi1hv81; alt. Digital Currency Address—XBT 1G64TFMFVJTjhJXra6x74BBhsfSyiWaFtT; alt. Digital Currency Address—XBT 1A3iYY4c3dkgNYGewzYzr7EsqfBuWXibGo; alt. Digital Currency Address—XBT

3GAUBtrTtWp1D9yeXgr3wMg8B599QHa5m5; alt. Digital Currency Address—XBT 3HJN4jRa4mdfkey9JR9jUhr86yPwL86A3C; alt. Digital Currency Address—XBT 1EuUMPBCZtSd5pVVFEqmRqUSfU1qy6ASuL; alt. Digital Currency Address—XBT 1Pu1nAW7kCoSMThMs8QcpM8JxuByQDZgH; alt. Digital Currency Address—XBT 3QnWE5GVfQu3wVav91RuFkqip4Ti4NWqAY; alt. Digital Currency Address—XBT 1CNbhgxGRZvsWnEHotfXge7k2E1UPzBDC7; alt. Digital Currency Address—XBT

3HSZc4BLnQBznjSq7JvXgqNCZUUs3M9fZz; alt. Digital Currency Address—XBT 37dDBCexFPraKW4jGSqkE3NyG52YeZQbJx; alt. Digital Currency Address—XBT 1H8sDTTgJPBKw83EBZDLhXvetCbxZUMMZM; alt. Digital Currency Address—XBT 1BvJRBRp9ZZ6zLyuZaZsV7g3xP6JokdZQW; alt. Digital Currency Address—XBT

bc1q237mvl0heyw0r38wd3xz8h5mar96rrwpams8pp; alt. Digital Currency Address—XBT 34dxZvijpBM1YkPybczbQ7DuGuKAnULdfS; alt. Digital Currency Address—XBT 1GkLN7DbA9mAtHNzQWNPANcdWbefaz4Gzm; alt. Digital Currency Address—XBT 13hfsQm6oCaDZehfYBSMFiJVAi1jsL6sQd; alt. Digital Currency Address—XBT

1Sf6e4xQv8muMZqYPTdRFf3e5o5eWcg9F; alt. Digital Currency Address—XBT bc1qj6j6p0jdefl6pvdzx3kx8245yy5mz6q4luhzes; alt. Digital Currency Address—XBT 1B3u21itzjgKtm7QsNQNCBpSkwzzeDHqrW; alt. Digital Currency Address—XBT 3JhPsVV3KnL9dBYGSZALS9EbrLr97R865a; alt. Digital Currency Address—XBT

bc1qqf8kcc9m57xjqcvsvuf989nnl48ve6d2s24cx3; alt. Digital Currency Address—XBT 1HuYfoEwsfHgZiRhbhJrCd5ST3iksa8KEx; alt. Digital Currency Address—XBT 1J9wJH2bamZVxscXAvoDH4jvtGKb7sYFDm; alt. Digital Currency Address—XBT 34WWXwFKAsXL9zYxbeNPaPV6vDamkjQLUo; alt. Digital Currency Address—XBT 3PDmRwotTkRAFRLGTUrucCERp2JdM1q4ar; alt. Digital Currency Address—XBT 3AFcE2mbSSndcpYFgHoExSmjUc26ef2gQh; alt. Digital Currency Address—XBT

3P6PzdfETr4275Gn3veLkCyDxA1jV8fHKm; alt. Digital Currency Address—XBT 3HRExd8GKFskZC5inmVcpiyy9UWG7FVa6o; alt. Digital Currency Address—XBT 3MP7yBGSW2gkXVRE8S84T2j4KVgPh3rEzv; alt. Digital Currency Address—XBT 1K2fmE9hfhbRNSZoBvCBWZAvsS5idTUxBG; alt. Digital Currency Address—XBT 3ES6pqCueDPCnC4hCqhhYuey6gyiRJZw6E; alt. Digital Currency Address—XBT

3KvBX3jo69Qn8jHy44M33RYoeYcf8DdRBD; alt. Digital Currency Address—XBT 3K26aMKmnrv97Pj6YiFcqiXk2LxeHfhnG3; alt. Digital Currency Address—XBT 3BWP6ZQAhc4j5wR1b95zJAthJEFvhdees7; alt. Digital Currency Address—XBT 3JuSgFrwnrNfuhvR4GpWAPmeJVot4xrEae; alt. Digital Currency Address—XBT 1DKGRGJXGNLAtTeFb9SNPNHtrkZ87q7qKi; alt. Digital Currency Address—XBT

361AkMKNNWYwZRsCE8pPNmoh5aQf4V7g4p; alt. Digital Currency Address—XBT 33fWcMdmsB2Ey4CEbVWbjGFkuevBSyP9nG; alt. Digital Currency Address—XBT 35aTjkBh4yeTypJsi9nuTdoMKHTsawKVgX; Organization Established Date 2015 [CYBER2].

Designated pursuant to Section 1(a)(ii)(D) of Executive Order 13694 of April 1, 2015 “Blocking the Property of Certain Persons Engaging in Significant Malicious Cyber-Enabled Activities,” 80 FR 18077, 3 CFR 2015 Comp., p. 297, as amended by Executive Order 13757 of December 28, 2016, “Taking Additional Steps to Address the National Emergency With Respect to Significant Malicious Cyber-Enabled Activities,” 82 FR 1, 3 CFR 2016 Comp., p. 659 (E.O. 13694, as amended) for being responsible for or complicit in, or to have engaged in, directly or indirectly, cyber-enabled activities originating from, or directed by persons located, in whole or in substantial part, outside the United States that are reasonably likely to result in, or have materially contributed to, a significant threat to the national security, foreign policy, or economic health or financial stability of the United States and that have the purpose or effect of causing a significant misappropriation of funds or economic resources, trade secrets, personal identifiers, or financial information for commercial or competitive advantage or private financial gain.

Dated: April 5, 2022.
Andrea M. Gacki,
Director, Office of Foreign Assets Control, U.S. Department of the Treasury.

[FR Doc. 2022-07616 Filed 4-8-22; 8:45 am]

BILLING CODE 4810-AL-P